DEPARTMENT OF ENERGY

Federal Energy Regulatory Commission

[Docket Nos. RP00-494-000, RP01-13-000 and RP01-13-001]

Williams Gas Pipelines Central, Inc.; Notice of Technical Conference

February 12, 2001.

On August 16, 2000, Williams Gas Pipelines Central, Inc. (Williams) submitted a filing to comply with Order No. 637. Several parties have protested various aspects of Williams' filing. Subsequently, on October 2, 2000, Williams submitted a filing in Docket No. RP01-13-000 to comply with Order Nos. 587-G and 587-L. The Commission accepted the 587-L filing subject to further consideration in Williams' Order No. 637 proceeding and required Williams to make a further compliance filing. On November 27, 2000, in Docket No. PR01-13-001, Williams submitted the required compliance filing.

Take notice that a technical conference to discuss the various issues raised by Williams' filings will be held on Thursday, February 22, 2001, at 9 a.m., in a room to be designated at the Federal Energy Regulatory Commission, 888 First Street, NE, Washington, D.C. 20426.

Among the major areas to be addressed is Williams' segmentation proposal. Therefore, Williams should provide current maps of its system and be prepared to discuss their system's operations. Parties protesting aspects of Williams' filings are invited to present alternative proposals.

All interested persons and Staff are permitted to attend.

Linwood A. Watson, Jr.,
Acting Secretary.

[FR Doc. 01-3908 Filed 2-15-01; 8:45 am]

BILLING CODE 6717-01-M